DEPARTMENT OF HEALTH AND HUMAN SERVICES

Food and Drug Administration

[Docket Nos. FDA-2018-N-2434, FDA-2016-N-3535, FDA-2013-N-1619, FDA-2016-N-0736, FDA-2019-N-3885, FDA-2013-N-1423, FDA-2013-N-0804, FDA-2016-N-3995, FDA-2018-D-1592, FDA-2016-N-2066, and FDA-2017-N-0366]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Formal Meetings Between the Food and Drug Administration and Sponsors and Applicants of Prescription Drug User Fee Act Products | 0910-0429 | 5/31/2023
Special Protocol Assessments | 0910-0470 | 5/31/2023
Current Good Manufacturing Practice in Manufacturing, Packaging, Labeling, or Holding Operations for Dietary Supplements | 0910-0606 | 5/31/2023
Tracking Network for PETNet, LivestockNet, and SampleNet | 0910-0680 | 5/31/2023
Center for Tobacco Products, Food and Drug Administration Funded Trainee/Scholar Survey | 0910-0887 | 5/31/2023
Importer's Entry Notice | 0910-0046 | 6/30/2023
Premarket Notification Submission 510(k), Subpart E | 0910-0120 | 6/30/2023
Medical Devices; Pediatric Uses of Devices; Requirement for Submission of Information on Pediatric Subpopulations | 0910-0748 | 6/30/2023
Controlled Correspondence Related to Generic Drug Development | 0910-0797 | 6/30/2023
Certification of Identity for Freedom of Information Act and Privacy Act Requests | 0910-0832 | 6/30/2023
FDA Advisory Committee Membership Nominations | 0910-0833 | 6/30/2023

Dated: July 6, 2020.
Lowell J. Schiller,
Principal Associate Commissioner for Policy.

[FR Doc. 2020-14875 Filed 7-9-20; 8:45 am]

BILLING CODE 4164-01-P